DEPARTMENT OF ENERGY

Federal Energy Regulatory Commission

Combined Notice of Filings #1

Take notice that the Commission received the following exempt wholesale generator filings:

Docket Numbers: EG20-130-000.

Applicants: Richmond Spider Solar, LLC.

Description: Richmond Spider Solar, LLC submits a notice of self-certification of exempt wholesale generator status.

Filed Date: 4/21/20.

Accession Number: 20200422-0011.

Comments Due: 5 p.m. ET 5/12/20.

Docket Numbers: EG20-131-000.

Applicants: Pleinmont Solar 1, LLC.

Description: Pleinmont Solar 1, LLC submits a notice of self-certification of exempt wholesale generator status.

Filed Date: 4/21/20.

Accession Number: 20200422-0010.

Comments Due: 5 p.m. ET 5/12/20.

Docket Numbers: EG20-132-000.

Applicants: Highlander IA, LLC.

Description: Highlander IA, LLC submits a notice of self-certification of exempt wholesale generator status.

Filed Date: 4/22/20.

Accession Number: 20200422-0012.

Comments Due: 5 p.m. ET 5/13/20.

Docket Numbers: EG20-133-000.

Applicants: Pleinmont Solar 2, LLC.

Description: Pleinmont Solar 2, LLC submits a notice of self-certification of exempt wholesale generator status.

Filed Date: 4/22/20.

Accession Number: 20200422-0013.

Comments Due: 5 p.m. ET 5/13/20.

Docket Numbers: EG20-134-000.

Applicants: IP Aragorn, LLC.

Description: Notice of Self-Certification of Exempt Wholesale Generator Status of IP Aragorn, LLC.

Filed Date: 4/22/20.

Accession Number: 20200422-5194.

Comments Due: 5 p.m. ET 5/13/20.

Docket Numbers: EG20-135-000.

Applicants: IP Juno, LLC.

Description: Notice of Self-Certification of Exempt Wholesale Generator Status of IP Juno, LLC.

Filed Date: 4/22/20.

Accession Number: 20200422-5197.

Comments Due: 5 p.m. ET 5/13/20.

Docket Numbers: EG20-136-000.

Applicants: IP Titan, LLC.

Description: Notice of Self-Certification of Exempt Wholesale Generator Status of IP Titan, LLC.

Filed Date: 4/22/20.

Accession Number: 20200422-5200.

Comments Due: 5 p.m. ET 5/13/20.

Take notice that the Commission received the following electric rate filings:

Docket Numbers: ER20-1313-000.

Applicants: GridLiance High Plains LLC.

Description: Annual Informational Filing of Rate Year 2020 Projected Net Transmission Revenue Requirement and Rate Year 2018 True-Up Adjustment of GridLiance High Plains LLC.

Filed Date: 3/16/20.

Accession Number: 20200316-5183.

Comments Due: 5 p.m. ET 5/7/20.

Docket Numbers: ER20-1417-001.

Applicants: Roundhouse Renewable Energy, LLC.

Description: Tariff Amendment: Amendment to Roundhouse Renewable Energy, LLC Application for MBR Authority to be effective 6/1/2020.

Filed Date: 4/23/20.

Accession Number: 20200423-5039.

Comments Due: 5 p.m. ET 5/14/20.

Docket Numbers: ER20-1628-000.

Applicants: Cedar Creek II, LLC.

Description: Initial rate filing: Compliance Filing to be effective 3/19/2020.

Filed Date: 4/22/20.

Accession Number: 20200422-5169.

Comments Due: 5 p.m. ET 5/13/20.

Docket Numbers: ER20-1629-000.

Applicants: AES ES Alamitos, LLC.

Description: Baseline eTariff Filing: AES ES Alamitos MBR Application to be effective 6/22/2020.

Filed Date: 4/22/20.

Accession Number: 20200422-5175.

Comments Due: 5 p.m. ET 5/13/20.

Docket Numbers: ER20-1630-000.

Applicants: Midcontinent Independent System Operator, Inc..

Description: § 205(d) Rate Filing: 2020-04-22_SA 3479 Ameren Illinois-Boomtown Solar Energy GIA (J800) to be effective 4/8/2020.

Filed Date: 4/22/20.

Accession Number: 20200422-5161.

Comments Due: 5 p.m. ET 5/13/20.

Docket Numbers: ER20-1631-000.

Applicants: AEP Oklahoma Transmission Company, Inc.

Description: § 205(d) Rate Filing: AEPOTC-Wildhorse Wind Preliminary Development Agreement Cancellation to be effective 6/22/2020.

Filed Date: 4/22/20.

Accession Number: 20200422-5163.

Comments Due: 5 p.m. ET 5/13/20.

Docket Numbers: ER20-1632-000.

Applicants: PacifiCorp.

Description: § 205(d) Rate Filing: Idaho Falls Procure & Construct for Sugarmill-Paine to be effective 6/22/2020.

Filed Date: 4/22/20.

Accession Number: 20200422-5176.

Comments Due: 5 p.m. ET 5/13/20.

Docket Numbers: ER20-1633-000.

Applicants: Silver Run Electric, LLC, PJM Interconnection, L.L.C.

Description: Compliance filing: Silver Run Electric, LLC submits revisions to OATT, Att. H-27 re: Order 864 to be effective 5/25/2020.

Filed Date: 4/22/20.

Accession Number: 20200422-5177.

Comments Due: 5 p.m. ET 5/13/20.

Docket Numbers: ER20-1634-000.

Applicants: PJM Interconnection, L.L.C.

Description: § 205(d) Rate Filing: Original ISA, Service Agreement No. 5616; Queue No. AD1-143 to be effective 3/26/2020.

Filed Date: 4/23/20.

Accession Number: 20200423-5034.

Comments Due: 5 p.m. ET 5/14/20.

Docket Numbers: ER20-1635-000.

Applicants: Tri-State Generation and Transmission Association, Inc.

Description: § 205(d) Rate Filing: Amendment to Tri-State Rate Schedule FERC No. 79 to be effective 3/11/2020.

Filed Date: 4/23/20.

Accession Number: 20200423-5037.

Comments Due: 5 p.m. ET 5/14/20.

Docket Numbers: ER20-1636-000.

Applicants: Alabama Power Company.

Description: § 205(d) Rate Filing: Blackbear Alabama Solar 1 Amended and Restated LGIA Filing to be effective 4/9/2020.

Filed Date: 4/23/20.

Accession Number: 20200423-5045.

Comments Due: 5 p.m. ET 5/14/20.

Docket Numbers: ER20-1637-000.

Applicants: Southern California Edison Company.

Description: § 205(d) Rate Filing: Amended LGIA Mojave 3/4/5 LLC SA No. 240 to be effective 6/23/2020.

Filed Date: 4/23/20.

Accession Number: 20200423-5060.

Comments Due: 5 p.m. ET 5/14/20.

Docket Numbers: ER20-1638-000.

Applicants: Southern California Edison Company.

Description: § 205(d) Rate Filing: Amended LGIA Golden Fields Solar VI SA No. 200 to be effective 4/24/2020.

Filed Date: 4/23/20.

Accession Number: 20200423-5066.

Comments Due: 5 p.m. ET 5/14/20.

Docket Numbers: ER20-1639-000.

Applicants: Southern California Edison Company.

Description: Tariff Cancellation: Notices of Cancellation SGIAs Monolith 4-7 SA Nos. 201-204 to be effective 4/10/2020.

Filed Date: 4/23/20.

Accession Number: 20200423-5068.

Comments Due: 5 p.m. ET 5/14/20.

Docket Numbers: ER20-1640-000.

Applicants: Northern States Power Company, a Minnesota corporation.

Description: § 205(d) Rate Filing: 2020-04-23 NSP-MMPA-Meter Upgrade-CIAC-677 to be effective 6/23/2020.

Filed Date: 4/23/20.

Accession Number: 20200423-5089.

Comments Due: 5 p.m. ET 5/14/20.

Docket Numbers: ER20-1641-000.

Applicants: Southern Illinois Generation Company, LLC.

Description: Baseline eTariff Filing: Market-Based Rate Tariff to be effective 6/1/2020.

Filed Date: 4/23/20.

Accession Number: 20200423-5091.

Comments Due: 5 p.m. ET 5/14/20.

Take notice that the Commission received the following electric reliability filings

Docket Numbers: RD20-8-000.

Applicants: North American Electric Reliability Corporation.

Description: Petition of the North American Electric Reliability Corporation for approval of erratum to TPL-001-5.

Filed Date: 4/23/20.

Accession Number: 20200423-5103.

Comments Due: 5 p.m. ET 5/26/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2020.
Nathaniel J. Davis, Sr.,
Deputy Secretary.

[FR Doc. 2020-09091 Filed 4-28-20; 8:45 am]

BILLING CODE 6717-01-P